SMALL BUSINESS ADMINISTRATION

Public Federal Regulatory Enforcement Fairness Hearing; Region IX Regulatory Fairness Board

The U.S. Small Business Administration (SBA) Region IX Regulatory Fairness Board and the SBA Office of the National Ombudsman will hold a public hearing on Friday, September 29, 2006, at 9 a.m. The meeting will take place at the Sacramento Convention Center, 1401 J Street, Room 101, Sacramento, CA 95814-2918. The purpose of the meeting is to receive comments and testimony from small business owners, small government entities, and small non-profit organizations concerning regulatory enforcement and compliance actions taken by Federal agencies.

Anyone wishing to attend or to make a presentation must contact Mary Conway-Jepsen, in writing or by fax, in order to be placed on the agenda. Mary Conway-Jepsen, Business Development Specialist, SBA, Sacramento District Office, 650 Capitol Mall, Suite 7-500, Sacramento, CA 95814-2918, phone (916) 930-3718 and fax (916) 930-3737, e-mail: Mary.conway-jepsen@sba.gov.

For more information, see our Web site at http://www.sba.gov/ombudsman.

Thomas M. Dryer,
Acting Committee Management Officer.

[FR Doc. E6-15362 Filed 9-15-06; 8:45 am]

BILLING CODE 8025-01-P